FEDERAL RESERVE SYSTEM

12 CFR Parts 222, 226, 227, and 230

[Regulations V, Z, AA, and DD; Docket Nos. R-1286; R-1314; R-1315, and R-1316]

Missing Comments Submitted Through the Federal eRulemaking Portal

AGENCY: Board of Governors of the Federal Reserve System.

ACTION: Notice of opportunity to resubmit comments.

SUMMARY: Because of a software problem at the Federal eRulemaking Portal (http://www.regulations.gov), the Board did not receive certain public comments submitted through that portal. This problem affected comments on four of the Board's proposed rules [Docket Nos. R-1286; R-1314, R-1315; and R-1316] that were submitted only through the Federal eRulemaking Portal between March 22, 2008, and September 8, 2008. A total of 83 comments on the four proposals were not relayed to the Board. As set forth below, the Board will accept resubmission of those comments that were not received.

DATES: Comments must be received on or before November 12, 2008.

ADDRESSES: Affected commenters may re-submit comments by using this link: http://www.federalreserve.gov/generalinfo/foia/lostcomments.cfm.

SUPPLEMENTARY INFORMATION: The Board of Governors of the Federal Reserve System recently received notice that 83 comment letters submitted between March 22, 2008, and September 8, 2008, via the Federal eRulemaking Portal (http://www.regulations.gov) on four of the Board's rulemaking proposals [Docket No. R-1286, Regulation Z, Truth in Lending (73 FR 28867, May 19, 2008); Docket No. R-1314, Regulation AA, Unfair or Deceptive Acts or Practices (73 FR 28905, May 19, 2008); Docket No. R-1315, Regulation DD, Truth in Savings (73 FR 28739, May 19, 2008); and Docket No. R-1316, Regulation V, Fair Credit Reporting (73 FR 28966, May 19, 2008)] that have not been acted on were not forwarded to the Board, due to a software problem at that portal.¹ The problem affects comments that were sent only to the eRulemaking Portal. Comments sent by other means (by e-mail to the Board's comments mailbox, by facsimile, or by mail) are not affected. Because the identities of the commenters affected by this software problem are not retrievable, the Board requests that before resubmitting a comment, you review the Board's Web site at: http://www.federalreserve.gov/generalinfo/foia/ProposedRegs.cfm to determine if your comment has been posted. If the comment that you submitted has not been posted, you may re-submit your comment by using this link: http://pubdev.frb.gov/generalinfo/foia/LostComments.cfm.

¹ The interagency “eRulemaking Program” launched the Web site http://www.regulations.gov in January 2003 to provide access and an opportunity to comment on all proposed federal regulations at one online portal. The Federal Reserve has received assurances that the software problem has been corrected and safeguards are now in place to ensure the error will not occur for future proposed rules. Questions about this matter may be directed to John Moses, Chief, eRulemaking Program Branch, Environmental Protection Agency, 1200 Pennsylvania Ave., NW., Washington, DC 20460, 202/566-1352, or Moses.John@epamail.epa.gov.

Dated: October 23, 2008.
Robert deV. Frierson,
Deputy Secretary of the Board.

[FR Doc. E8-25610 Filed 10-27-08; 8:45 am]

BILLING CODE 6210-01-P